DEPARTMENT OF COMMERCE

International Trade Administration

(A-475-818)

Certain Pasta From Italy: Notice of Final Results of the Eleventh Administrative Review and Partial Rescission of Review

AGENCY: Import Administration, International Trade Administration, Department of Commerce.

SUMMARY: On August 6, 2008, the Department of Commerce (the Department) published the preliminary results of the eleventh administrative review for the antidumping duty order on certain pasta from Italy. The review covers four manufacturers/exporters: F. Divella SpA (Divella), Pasta Zara SpA 1 and Pasta Zara SpA 2 (collectively, Zara), Pastificio Di Martino Gaetano & F. lli SrL (Gaetano), and Pastificio Felicetti SrL (Felicetti). The period of review (POR) is July 1, 2006, through June 30, 2007. Divella and Zara were selected as mandatory respondents.¹

¹ See Memorandum to Melissa Skinner, Director, Office 3, from Team regarding Selection of Respondents for Individual Review, October 15, 2007.

As a result of our analysis of the comments received, the final results differ from the preliminary results for Zara, Gaetano and Felicetti. The final weighted-average dumping margins for these companies are listed below in the “Final Results of Review” section of this notice.

EFFECTIVE DATE: December 11, 2008.

FOR FURTHER INFORMATION CONTACT: Stephanie Moore (Zara) and Christopher Hargett (Divella), AD/CVD Operations, Office 3, Import Administration, International Trade Administration, U.S. Department of Commerce, 14th Street and Constitution Avenue, NW, Washington, DC 20230; telephone: (202) 482-3692 and (202) 482-4161, respectively.

SUPPLEMENTARY INFORMATION:

Background

On August 6, 2008, the Department published the preliminary results of the eleventh administrative review of the antidumping duty order on certain pasta from Italy. See Certain Pasta from Italy: Notice of Preliminary Results of Eleventh Antidumping Duty Administrative Review, 73 FR 45716 (August 6, 2008) (Preliminary Results).

Petitioners², Divella, and Zara submitted case briefs on October 20, 2008, and rebuttal briefs on October 27, 2008. On August 15, 2008, Divella and Zara requested a hearing. A public hearing was held on October 29, 2008.

² Petitioners are New World Pasta Company, Dakota Growers Pasta Company, and American Italian Pasta Company.

Scope of the Order

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded are imports of organic pasta from Italy that are accompanied by the appropriate certificate issued by the Instituto Mediterraneo Di Certificazione, by QC&I International Services, by Ecocert Italia, by Consorzio per il Controllo dei Prodotti Biologici, by Associazione Italiana per l'Agricoltura Biologica, by Codex S.r.L., by Bioagricert S.r.L., or by Instituto per la Certificazione Etica e Ambientale. The merchandise subject to this order is currently classifiable under items 1902.19.20 and 1901.90.9095 of the Harmonized Tariff Schedule of the United States (HTSUS). Although the HTSUS subheadings are provided for convenience and customs purposes, the written description of the merchandise subject to the order is dispositive.

Analysis of Comments Received

All issues raised in the case and rebuttal briefs by parties to this administrative review are addressed in the Issues and Decision Memorandum, which is hereby adopted by this notice. A list of the issues which parties have raised, and to which we have responded in the Issues and Decision Memorandum, is attached to this notice as an Appendix. In addition, a complete version of the Issues and Decision Memorandum can be accessed directly on the Web at http://ia.ita.doc.gov/frn/, and is on file in the Central Records Unit, main Commerce Building, room 1117. The paper copy and electronic version of the Issues and Decision Memorandum are identical in content.

Final Results of Review

We determine that the following weighted-average margin exists for the period July 1, 2006, through June 30, 2007:

Manufacturer/exporter | Margin (percent)
Divella | 2.83
Zara | 9.71

For those companies not selected as mandatory respondents, we determine that the following simple average percentage margin³ (based on the two reviewed companies) exists for the period July 1, 2006, through June 30, 2007:

³ Because there are only two respondents for which a company-specific margin was calculated in this review, the Department has calculated a simple average margin to ensure that the total import quantity and value for each company is not inadvertently revealed.

Manufacturer/exporter | Margin (percent)
Gaetano | 6.27
Felicetti | 6.27

Assessment Rates

The Department will determine, and U.S. Customs and Border Protection (CBP) shall assess, antidumping duties on all appropriate entries, pursuant to section 751(a)(1)(B) of the Tariff Act of 1930, as amended (the Act), and 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department intends to issue assessment instructions to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the period of review produced by companies included in these preliminary results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of this notice of final results of the administrative review for all shipments of certain pasta from Italy entered, or withdrawn from warehouse, for consumption on or after the date of publication of these final results, as provided by section 751(a)(1) of the Act: (1) The cash deposit rates for Divella, Zara, Gaetano, and Felicetti will be the rates shown above; (2) for previously reviewed or investigated companies not listed above, the cash deposit rate will continue to be the company specific rate published for the most recent period; (3) if the exporter is not a firm covered in this review, a prior review, or the original less-than-fair-value investigation, but the manufacturer is, the cash deposit rate will be the rate established for the most recent period for the manufacturer of the merchandise; and (4) the cash deposit rate for all other manufacturers or exporters will continue to be 15.45 percent, the all-others rate established in the implementation of the findings of the WTO Panel in US - Zeroing (EC). See Implementation of the Findings of the WTO Panel in US - Zeroing (EC): Notice of Determinations Under Section 129 of the Uruguay Round Agreements Act and Revocations and Partial Revocations of Certain Antidumping Duty Orders, 72 FR 25261 (May 4, 2007). These cash deposit requirements shall remain in effect until further notice.

Notification

This notice also serves as a final reminder to importers of their responsibility under 19 CFR 351.402(f) to file a certificate regarding the reimbursement of antidumping duties and/or countervailing duties prior to liquidation of the relevant entries during this review period. Failure to comply with this requirement may result in the Secretarys' presumption that reimbursement of antidumping and/or countervailing duties occurred and the subsequent assessment of double antidumping duties.

This notice also serves as a reminder to parties subject to administrative protective order (APO) of their responsibility concerning the disposition of proprietary information disclosed under APO in accordance with 19 CFR 351.305. Timely notification of the return/destruction of APO materials or conversion to judicial protective order is hereby requested. Failure to comply with the regulations and the terms of an APO are sanctionable violations.

We are issuing and publishing these final results of review and notice in accordance with sections 751(a)(1) and 777(i)(1) of the Act.

Dated: December 4, 2008.
David M. Spooner,
Assistant Secretary for Import Administration.

Appendix I

List of Comments in the Issues and Decision Memorandum

General

Comment 1: Legal Standard for Level of Trade

F. Divella S.p.A.

Comment 2: Home Market Advertising Expenses

Comment 3: Home Market Level of Trade

Comment 4: HANDLH Should be Included in the Home Market Net Price Calculation

Pasta Zara S.p.A.

Comment 5: Treatment of Billing Adjustments

Comment 6: Direct Selling Expenses

Comment 7: Whether Zara U.S. Sales are CEP or EP

Comment 8: Zara's Home Market Level of Trade

Comment 9: Wheat Code Classification

Comment 10: Calculation of the G&A and Financial Expense Ratios

Comment 11: Treatment of Sales Proceeds with Respect to the Cost of Production

[FR Doc. E8-29393 Filed 12-10-08; 8:45 am]

BILLING CODE 3510-DS-S